DEPARTMENT OF LABOR

Employment and Training Administration

[TA-W-56,168]

AG Communication Systems, a Division of Lucent Technologies, Genoa, IL; Including Employees of AG Communication Systems, a Division of Lucent Technologies, Genoa, IL Working in the States of: TA-W-56,168A Florida, TA-W-56,168B Wisconson, TA-W-56,168C California, TA-W-56,168D Texas; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on January 4, 2005, applicable to workers of AG Communication Systems, a division of Lucent Technologies, Genoa, Illinois. The notice was published in the Federal Register on February 7, 2005 (70 FR 6460).

At the request of the State agency, the Department reviewed the certification for workers of the subject firm. New information shows that worker separations have occurred involving employees of AG Communication Systems, a division of Lucent Technologies, Genoa, Illinois working in Florida, Wisconsin, California and Texas. These employees provide support function services for the production of telecommunications equipment produced at the Genoa, Illinois location of the subject firm.

Based on these findings, the Department is amending this certification to include employees of AG Communication Systems, a division of Lucent Technologies, Genoa, Illinois working in Florida, Wisconsin, California and Texas.

The intent of the Department's certification is to include all workers of AG Communication Systems, a division of Lucent Technologies who were adversely affected by a shift in production to Malaysia.

The amended notice applicable to TA-W-56,168 is hereby issued as follows:

All workers of AG Communication Systems, a division of Lucent Technologies, Genoa, Illinois (TA-W-56,168), including employees of AG Communication Systems, a division of Lucent Technologies, Genoa, Illinois, working in Florida (TA-W-56,168A), Wisconsin (TA-W-56,168B), California (TA-W-56,168C) and Texas (TA-W-56,168D), who became totally or partially separated from employment on or after December 3, 2003, through January 4, 2007, are eligible to apply for adjustment assistance under Section 223 of the Trade Act of 1974, and are also eligible to apply for alternative trade adjustment assistance under Section 246 of the Trade Act of 1974.

Signed at Washington, DC this 1st day of April 2005.
Richard Church,
Certifying Officer, Division of Trade Adjustment Assistance.

[FR Doc. E5-1937 Filed 4-22-05; 8:45 am]

BILLING CODE 4510-30-P